DEPARTMENT OF HOMELAND SECURITY

Coast Guard

33 CFR Part 117

[Docket No. USCG-2017-0369]

Drawbridge Operation Regulation; Jamaica Bay, Queens, NY

AGENCY: Coast Guard, DHS.

ACTION: Notice of deviation from drawbridge regulation.

SUMMARY: The Coast Guard has issued a temporary deviation from the operating schedule that governs the Marine Parkway (Gil Hodges) Bridge across Rockaway Inlet, mile 3.0, at Queens, NY. This action is necessary to complete bridge maintenance and repairs. This deviation allows the bridge to remain in the closed position.

DATES: This modified deviation is effective without actual notice from June 9, 2017 through 11:59 p.m. on June 30, 2017. For the purposes of enforcement, actual notice will be used from May 13, 2017 at 5 p.m. until June 9, 2017.

ADDRESSES: The docket for this deviation, USCG-2017-0369 is available at http://www.regulations.gov. Type the docket number in the “SEARCH” box and click “SEARCH”. Click on Open Docket Folder on the line associated with this deviation.

FOR FURTHER INFORMATION CONTACT: If you have questions on this temporary deviation, call or email James M. Moore, Bridge Management Specialist, First District Bridge Branch, U.S. Coast Guard; telephone 212-514-4334, email james.m.moore2@uscg.mil.

SUPPLEMENTARY INFORMATION: The Metropolitan Transportation Authority, owner of the bridge, requested a temporary deviation in order to facilitate replacement of lift span machinery. The Marine Parkway (Gil Hodges) Bridge across Rockaway Inlet, mile 3.0 at Queens, New York has a vertical clearance of 55 feet at mean high water and 59 feet at mean low water in the closed position. The existing drawbridge operating regulations are listed at 33 CFR 117.795(a).

The temporary deviation will allow the Marine Parkway (Gil Hodges) Bridge to remain in the closed position from 5:01 p.m. May 13, 2017 to 11:59 p.m. June 30, 2017.

The waterway is transited by seasonal recreational traffic as well as commercial vessels, largely tug and barge combinations. The 55 foot vertical clearance while the bridge is in the closed position offers the bulk of commercial traffic sufficient room to transit the navigation opening of the structure even when in the closed position. Vessels that can pass under the bridge without an opening may do so at all times. The bridge will not be able to open for emergencies and there is no immediate alternate route for vessels unable to pass through the bridge when in the closed position.

The Coast Guard will also inform the users of the waterways through our Local and Broadcast Notices to Mariners of the change in operating schedule for the bridge so that vessel operators can arrange their transits to minimize any impact caused by this temporary deviation.

In accordance with 33 CFR 117.35(e), the drawbridge must return to its regular operating schedule immediately at the end of the effective period of this temporary deviation. This deviation from the operating regulations is authorized under 33 CFR 117.35.

Dated: May 23, 2017.
C.J. Bisignano,
Supervisory Bridge Management Specialist, First Coast Guard District.

[FR Doc. 2017-12045 Filed 6-8-17; 8:45 am]

BILLING CODE 9110-04-P